DEPARTMENT OF STATE

[Public Notice 6327]

Notice of Receipt of Application for a Presidential Permit To Operate and Maintain Pipeline Facilities on the Border of the United States

Notice is hereby given that the Department of State has received an application from Razorback L.L.C. for a Presidential permit, pursuant to Executive Order 13337 of April 30, 2004, to operate and maintain two pipelines for transporting petroleum products from Brownsville, Texas, to Matamoros, Mexico (“Matamoros pipelines”), crossing the international boundary line between the United States and Mexico at a point near Brownsville, Texas. On July 26, 1999, the Department of State (the “Department”), acting pursuant to delegated authority, issued a Presidential permit to the Penn Octane Corporation (“Penn Octane”), a California corporation with its principal place of business in Redmond, California, to “construct, maintain and operate” the Matamoros pipelines. According to the application, Rio Vista Operating Partnership L.P. (“Rio Vista”) was the successor in interest to Penn Octane and Razorback acquired the Matamoros pipelines from Rio Vista on December 31, 2007, as part of a large asset acquisition.

According to the application, Razorback is a Delaware Limited liability company doing business in Texas as Diamondback Pipeline L.L.C. and is engaged in the interstate and intrastate transportation of liquid petroleum products by pipeline. Also, according to the application, Razorback is an indirect wholly owned subsidiary of TransMontaigne Partners, L.P., a Delaware Limited Partnership. Razorback has, in written correspondence to the Department of State, committed to abide by the relevant terms and conditions of the permit previously issued by the Department to Penn Octane. Further, Razorback indicates in that correspondence that there have been no substantial changes in the operations of the Matamoros pipelines from those originally authorized by the Department and further states that the future operation of the pipeline will remain essentially unchanged from that previously permitted. Therefore, in accordance with 22 CFR 161.7(b)(3) and the Department's Procedures for Issuance of a Presidential Permit Where There Has Been a Transfer of the Underlying Facility, Bridge or Border Crossing for Land Transportation (70 FR 30990, May 31, 2005), the Department of State does not intend to conduct an environmental review of the application unless information is brought to its attention that the transfer potentially would have a significant impact on the quality of the human environment.

As required by E.O. 13337, the Department of State is circulating this application to concerned federal agencies for comment.

DATES: Interested parties are invited to submit, in duplicate, comments relative to this proposal on or before September 22, 2008 to J. Brian Duggan, Office of International Energy and Commodities Policy, Department of State, Washington, DC 20520. The application and related documents that are part of the record to be considered by the Department of State in connection with this application are available for inspection in the Office of International Energy and Commodities Policy during normal business hours.

FOR FURTHER INFORMATION CONTACT: J. Brian Duggan, Office of International Energy and Commodity Policy (EB/ESC/IEC/EPC), Department of State, Washington, DC 20520; or by telephone at (202) 647-1291; or by e-mail at DugganJB@state.gov.

Dated: August 15, 2008.
Stephen J. Gallogly,
Director, Office of International Energy and Commodity Policy, Department of State.

[FR Doc. E8-19414 Filed 8-20-08; 8:45 am]

BILLING CODE 4710-07-P